ARCHITECTURAL AND TRANSPORTATION BARRIERS COMPLIANCE BOARD

36 CFR Parts 1190 and 1191

RIN 3014-AA22

Emergency Transportable Housing Advisory Committee

AGENCY: Architectural and Transportation Barriers Compliance Board.

ACTION: Notice of meetings.

SUMMARY: The Architectural and Transportation Barriers Compliance Board (Access Board) has established an advisory committee to make recommendations for possible revisions to the Americans with Disabilities Act (ADA) and Architectural Barriers Act (ABA) Accessibility Guidelines to include provisions for emergency transportable housing. This notice announces the dates and times of upcoming committee conference calls.

DATES: The conference calls are scheduled for May 16, 2008; May 29, 2008; July 9, 2008; and July 28, 2008. All calls will begin at 10 a.m. and will conclude no later than 2 p.m. (Eastern time).

ADDRESSES: Individuals can participate in the conference calls by dialing a teleconference number which will be posted on the Access Board's Web site at http://www.access-board.gov/eth/.

FOR FURTHER INFORMATION CONTACT: Marsha Mazz, Office of Technical and Information Services, Architectural and Transportation Barriers Compliance Board, 1331 F Street, NW., suite 1000, Washington, DC 20004-1111. Telephone number (202) 272-0020 (Voice); (202) 272-0082 (TTY). These are not toll-free numbers. E-mail address: mazz@access-board.gov.

SUPPLEMENTARY INFORMATION: On August 23, 2007, the Architectural and Transportation Barriers Compliance Board (Access Board) established an advisory committee to make recommendations for possible revisions to the Americans with Disabilities Act (ADA) and Architectural Barriers Act (ABA) Accessibility Guidelines to include provisions for emergency transportable housing (72 FR 48251; August 23, 2007).

The committee will hold conference calls on May 16, 2008, May 29, 2008, July 9, 2008, and July 28, 2008 to discuss a variety of outstanding issues yet to be resolved. Information about the committee, and the agenda, instructions (including information on captioning), and dial in telephone numbers for the conference calls are available at http://www.access-board.gov/eth/. The conference calls are open to the public and interested persons can dial in and communicate their views during a public comment period scheduled during each conference call. Participants may call in from any location of their choosing.

The committee may cancel one or more of the conference calls depending on the needs of the committee and its progress in discussing and resolving outstanding issues. If a conference call is canceled, a notice will be posted at http://www.access-board.gov/eth/.

Persons wishing to provide handouts or other written information to the committee are requested to provide them in an electronic format to Marsha Mazz preferably by e-mail so that alternate formats such as large print can be distributed to committee members.

Lawrence W. Roffee,
Executive Director.

[FR Doc. E8-8420 Filed 4-17-08; 8:45 am]

BILLING CODE 8150-01-P